DEPARTMENT OF TRANSPORTATION

Office of the Secretary

Aviation Proceedings, Agreements Filed the Week Ending March 13, 2010

The following Agreements were filed with the Department of Transportation under sections 412 and 414 of the Federal Aviation Act, as amended (49 U.S.C. 1382 and 1384) and procedures governing proceedings to enforce these provisions. Answers may be filed within 21 days after the filing of the application.

Docket Number: DOT-OST-2010-0060.

Date Filed: March 8, 2010.

Parties: Members of the International Air Transport Association.

Subject:

TC3 Within South West Pacific, between South Asian Subcontinent, South East Asia and South West Pacific (Memo 1364).

Intended effective date: for travel on/after: 1 June 2010.

Docket Number: DOT-OST-2010-0061.

Date Filed: March 8, 2010.

Parties: Members of the International Air Transport Association.

Subject:

Mail Vote 628 Resolutions 010s, TC2 within Africa, Special Passenger Amending Resolution from Angola to Namibia (Memo 0199).

Intended effective date: 22 March 2010.

Renee V. Wright,
Program Manager, Docket Operations, Federal Register Liaison.

[FR Doc. 2010-6717 Filed 3-25-10; 8:45 am]

BILLING CODE 4910-9X-P